DEPARTMENT OF THE INTERIOR

Bureau of Land Management

[LLOR936000.L14300000.ET0000 FUND: 13XL1109AF; HAG-13-0143; OR-47417]

Public Land Order No. 7817; Extension of Public Land Order No. 6986; Oregon

AGENCY: Bureau of Land Management, Interior.

ACTION: Public land order.

SUMMARY: This order extends the duration of the withdrawal created by Public Land Order No. 6986, which was issued effective July 1, 1993, for an additional 20-year period. The extension is necessary to continue protection of the scenic, recreational, and fish and wildlife habitat values in the scenic section of the Illinois Wild and Scenic River located in the Rogue River-Siskiyou National Forest between the mouth of Deer Creek and the mouth of Briggs Creek, which would otherwise expire on June 30, 2013.

DATES: As of: July 1, 2013.

FOR FURTHER INFORMATION CONTACT: Michael L. Barnes, Bureau of Land Management, Oregon/Washington State Office, 503-808-6155, or Dianne Torpin, United States Forest Service, Pacific Northwest Region, 503-808-2422. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The purpose for which the withdrawal was first made requires this extension to continue to protect the scenic, recreational, and fish and wildlife habitat values of the scenic section of the Illinois Wild and Scenic River between the mouth of Deer Creek and the mouth of Briggs Creek located in the Rogue-Siskiyou National Forest. The withdrawal extended by this order will expire on June 30, 2033, unless as a result of a review conducted prior to the expiration date, pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6986 (58 FR 35408 (1993)), which withdrew approximately 4,239.95 acres of National Forest System land from location and entry under the United States mining laws (30 U.S.C. Ch. 2), but not from leasing under the mineral leasing laws, to protect the scenic section of the Illinois Wild and Scenic River located in the Rogue River-Siskiyou National Forest between the mouth of Deer Creek and the mouth of Briggs Creek, is hereby extended for an additional 20-year period until June 30, 2033.

Dated: June 20, 2013.
Rhea S. Suh,
Assistant Secretary—Policy, Management and Budget.

[FR Doc. 2013-16214 Filed 7-3-13; 8:45 am]

BILLING CODE 3410-11-P